DEPARTMENT OF DEFENSE

Office of the Secretary

Meeting of the DoD Healthcare Quality Initiative Review Panel

AGENCY: Department of Defense.

ACTION: Notice.

SUMMARY: On October 26, 2000, the DoD Healthcare Quality Initiatives Review panel published notice on an upcoming meeting (65 FR 64204). This notice is being published to change meeting dates due to the Federal holiday on November 10th.

DATES: November 8 & 9, 2000.

ADDRESSES: Sheraton Crystal City, 1800 Jefferson Davis Hwy, Arlington, VA 22202.

TIME: November 8th, 8 a.m. to 5:30 p.m.; November 9th, 8 a.m. to 5:30 p.m.

FOR FURTHER INFORMATION CONTACT: Gia Edmonds at (703) 933-8325.

Dated: October 30, 2000.
L.M. Bynum,
Alternate OSD Federal Register Officer, Department of Defense.

[FR Doc. 00-28213 Filed 11-2-00; 8:45 am]

BILLING CODE 5001-10-M